FEDERAL COMMUNICATIONS COMMISSION

[CC Docket No. 92-237; DA 19-1283; FRS 16356]

Next Meeting of the North American Numbering Council

AGENCY: Federal Communications Commission.

ACTION: Notice.

SUMMARY: In this document, the Commission released a public notice announcing the meeting of the North American Numbering Council (NANC).

DATES: Monday, January 13, 2020 (Room TW-C305), and, Thursday, February 13, 2020 (Room 5-B516). The meetings will come to order at 2:00 p.m.

ADDRESSES: Federal Communications Commission, 445 12th Street SW, Washington, DC 20554.

FOR FURTHER INFORMATION CONTACT: Marilyn Jones, Designated Federal Officer of the NANC, at marilyn.jones@fcc.gov., or (202) 418-2357; Jordan Reth, Alternate DFO, at jordan.reth@fcc.gov, or 202-418-1418; or Carmell Weathers, Special Assistant to the DFO at carmell.weathers@fcc.gov, or (202) 418-2325. The fax number is: (202) 418-1413. The TTY number is: (202) 418-0484. More information about the NANC is available at https://www.fcc.gov/about-fcc/advisory-committees/general/north-american-numbering-council.

SUPPLEMENTARY INFORMATION: This is a summary of the Commission's document in CC Docket No. 92-237, DA 19-1283, released on December 18, 2019. The complete text of this document is available for public inspection and copying during normal business hours in the FCC Reference Information Center, Portals II, 445 12th Street SW, Room CY-A257, Washington, DC 20554. It is available on the Commission's website at http://www.fcc.gov.

The NANC meeting is open to the public and will be conducted by conference call for those members unable to attend in person. The Commission will also provide audio coverage of the meeting. Other reasonable accommodations for people with disabilities are available upon request. Requests for such accommodations should be submitted via email to fcc504@fcc.gov or by calling the Consumer and Governmental Affairs Bureau @(202) 418-0530 (voice), (202) 418-0432 (TTY). Such requests should include a detailed description of the accommodation needed. In addition, please include a way for the FCC to contact the requester if more information is needed to fill the request. Please allow at least five days advance notice for accommodation requests; last minute requests will be accepted but may not be possible to accommodate.

Members of the public may submit comments to the NANC in the FCC's Electronic Comment Filing System, ECFS, at www.fcc.gov/ecfs. Comments to the NANC should be filed in CC Docket No. 92-237.

Requests to make an oral statement or provide written comments to the NANC should be sent to Carmell Weathers, Competition Policy Division, Wireline Competition Bureau, Federal Communications Commission, Portals II, 445 12th Street SW, Room 5-C162, Washington, DC 20554 or emailed to Carmell.Weathers@fcc.gov.

Proposed Agenda: The primary agenda for the January meeting will be for the NANC to consider and to vote on the recommended technical requirements document for the Reassigned Numbers Database. The Commission established the Reassigned Numbers Database in December 2018. Advanced Methods to Target and Eliminate Unlawful Robocalls, Second Report and Order, 33 FCC Rcd 12024 (2018). At the February meeting, the NANC will consider and vote on the recommendations for the fee structure and pricing for users of the Reassigned Numbers Database. This agenda may be modified at the discretion of the NANC Chair and the Designated Federal Officer (DFO).

Federal Communications Commission.
Marlene Dortch,
Secretary.

[FR Doc. 2019-28272 Filed 12-30-19; 8:45 am]

BILLING CODE 6712-01-P